DEPARTMENT OF JUSTICE

Bureau of Prisons

Notice of Intent to Prepare a Draft Environmental Impact Statement (DEIS)

AGENCY: Bureau of Prisons, U.S. Department of Justice.

ACTION: Notice of intent to prepare a Draft Environmental Impact Statement (DEIS).

SUMMARY: Notice of Intent to Prepare a Draft Environmental Impact Statement (DEIS) for development of a medium-security Federal correctional institution by the U.S. Department of Justice, Federal Bureau of Prisons. The area under consideration for correctional facility development includes southern West Virginia.

Background

The Federal Bureau of Prisons (BOP) is responsible for carrying out judgments of the Federal courts whenever a period of confinement is ordered. The mission of the BOP is to protect society by confining offenders in the controlled environments of prisons and community-based facilities that are safe, humane, cost-efficient and appropriately secure, and that provide work and other self-improvement opportunities to assist offenders in becoming law-abiding citizens.

As of March 29, 2004, approximately 148,655 inmates are housed within the 105 Federal correctional facilities that have levels of security ranging from minimum to maximum. At the present time, the Federal inmate population exceeds the combined rated capacities of the 105 Federal correctional facilities.

The continuing inmate population is due in part to Federal court sentencing guidelines which are resulting in longer terms of confinement for serious crimes. The increase in the number of immigration offenders and the effort to combat organized crime and drug trafficking are also contributing to the increase. Measures being undertaken to manage the growth of the Federal inmate population include construction of new institutions, acquisition and adaptation of facilities originally intended for other purposes, expansion and improvement of existing correctional facilities, and expanded use of contract beds. Adding capacity through these various means allows the BOP to work towards the long-term goal of managing our inmate population growth.

In the face of the continuing increase in the Federal prison population, one way the BOP has extended its capacity is through construction of new facilities. As part of this effort, the BOP has a facilities planning program featuring the identification and evaluation of sites for new facilities. The BOP routinely identifies prospective sites that may be appropriate for development of new Federal correctional facilities. Locations of new Federal correctional facilities are determined by the need for such facilities in various parts of the country and the resources available to meet that need.

The BOP routinely screens and evaluates private and public properties located throughout the nation for possible use and development. Over the past decade, the BOP has examined prospective sites for new correctional facilities development in Kentucky, Virginia, Pennsylvania, West Virginia, North Carolina, South Carolina, California, Florida, Arizona, Indiana, Mississippi, Arkansas, and Louisiana among other locations around the country and has undertaken environmental impact studies in compliance with the National Environmental Policy Act (NEPA) of 1969, as amended.

Proposed Action

The BOP is facing increased bedspace shortages throughout the Federal prison system. Over the past decade, a significant influx of inmates has entered the Federal prison system with a large portion of this influx originating from the Mid-Atlantic region.

In response, the BOP has committed significant resources to identifying and developing sites for new correctional facilities throughout this region including construction of facilities in Martin County and McCreary County, Kentucky; Petersburg and Lee County, Virginia; Butner, North Carolina; and Preston County and Gilmer County, West Virginia. Even with the development of these new and expanded facilities, projections show the Federal inmate population continuing to increase, placing additional demands for bedspace within the Mid-Atlantic region.

In response, the BOP has undertaken investigations throughout Virginia, Kentucky, North Carolina, and West Virginia in an effort to identify prospective sites capable of accommodating Federal correctional facilities and communities willing to host such facilities. Through this process, officials representing communities located in southern West Virginia, identified potential locations for development of a medium-security Federal correctional institution and offered several sites for BOP consideration. Sites located in McDowell County, Mingo County, Boone County, and Nicholas County in West Virginia have been offered and all were subjected to initial studies by the BOP. These potential sites were subjected to initial studies by the BOP and those considered suitable for correctional facility development will be evaluated further by the BOP in a DEIS that will analyze the potential impacts of facility construction and operation.

The BOP is proposing to build and operate in the Mid-Atlantic region a medium-security Federal correctional institution with an adjoining satellite work camp. The medium-security institution would house approximately 1,200 inmates.

The Process

In the process of evaluating the potential environmental impacts associated with Federal correctional facility development and operation, many factors and features will be analyzed including, but not limited to: topography, geology, soils, hydrology, biological resources, cultural resources, hazardous materials, aesthetics, fiscal considerations, population/ employment/housing characteristics, community services and facilities, land uses, utility services, transportation systems, meteorological conditions, air quality, and noise.

Alternatives

In developing the DEIS, the No Action alternative, other actions considered and eliminated, and alternatives sites for the proposed medium-security Federal correctional institution will be examined.

Scoping Process

During the preparation of the DEIS, there will be opportunities for public involvement in order to determine the issues to be examined. A Public Scoping Meeting will be held at 7 p.m., Tuesday, April 27, 2004, at Mount View High School, 950 Mount View Road, Welch, West Virginia. The meeting location, date, and time will be well-publicized and have been arranged to allow for the public as well as interested agencies and organizations to attend and formally express their views on the scope and significant issues to be studied as part of the DEIS process. The Scoping Meeting is being held to provide for timely public comments and understanding of Federal plans and programs with possible environmental consequences as required by the National Environmental Policy Act of 1969, as amended, and the National Historic Preservation Act of 1966, as amended.

Availability of DEIS

Public notice will be given concerning the availability of the DEIS for public review and comment.

Contact

Questions concerning the proposed action and the DEIS may be directed to: Pamela J. Chandler, Acting Chief, Site Selection and Environmental Review Branch, U.S. Department of Justice—Federal Bureau of Prisons, 320 First Street, NW., Washington, DC 20534 Telephone: 202-514-6470/Facsimile: 202-616-6024/siteselection@bop.gov.

Dated: March 29, 2004.
Pamela J. Chandler,
Acting Chief, Site Selection and Environmental Review Branch, Federal Bureau of Prisons.

[FR Doc. 04-7401 Filed 4-1-04; 8:45 am]

BILLING CODE 4410-05-P